NUCLEAR REGULATORY COMMISSION

[Docket No. 70-1151; NRC-2022-0047]

Westinghouse Electric Company, LLC; Columbia Fuel Fabrication Facility; and US Ecology, Inc.; Idaho Resource Conservation and Recovery Act Subtitle C; Hazardous Disposal Facility Located Near Grand View, Idaho

AGENCY: Nuclear Regulatory Commission.

ACTION: License amendment and exemptions; issuance.

SUMMARY: The U.S. Nuclear Regulatory Commission (NRC) is issuing exemptions from NRC regulations and associated license amendment related to requests from Westinghouse Electric Company, LLC (WEC) and US Ecology, Inc. (USEI). WEC requested NRC approval for an alternate disposal and related exemptions for specified low-activity radioactive waste from the Columbia Fuel Fabrication Facility (CFFF) in Hopkins, South Carolina containing byproduct material and special nuclear material (SNM) under License Number SNM-1107. Additionally, the NRC is approving exemptions requested by USEI from the applicable licensing requirements to allow USEI to receive and dispose of the material from CFFF without an NRC license. The USEI disposal facility, located near Grand View, Idaho, is a Subtitle C Resource Conservation and Recovery Act (RCRA) hazardous waste disposal facility permitted by the State of Idaho to receive low-level radioactive waste. Approval of the alternate disposal request from WEC and the exemptions and license amendment requested by WEC, and associated exemptions requested by USEI would allow WEC to transfer the specific waste from CFFF to USEI for disposal.

DATES: The exemptions are effective on March 24, 2022.

ADDRESSES: Please refer to Docket ID NRC-2022-0047 when contacting the NRC about the availability of information regarding this document. You may obtain publicly available information related to this document using any of the following methods:

• Federal Rulemaking Website: Go to https://www.regulations.gov and search for Docket ID NRC-2022-0047. Address questions about Docket IDs in Regulations.gov to Stacy Schumann; telephone: 301-415-0624; email: Stacy.Schumann@nrc.gov. For technical questions, contact the individual listed in the “For Further Information Contact” section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The Request for Alternate Disposal Approval and Exemption for Specific CFFF Waste (License No. SNM-1197, Docket No. 70-1151) dated November 5, 2022, as corrected by letter dated December 1, 2021, is available in ADAMS under Accession Nos. ML21309A095 and ML21336A461, respectively. The staff's Safety Evaluation Report dated March 4, 2022, is available in ADAMS under Package Accession No. ML22054A045.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

FOR FURTHER INFORMATION CONTACT: Jenny Tobin, Office of Nuclear Material Safety and Safeguards, U.S. Nuclear Regulatory Commission, Washington, DC 20555-0001; telephone: 301-415-2328, email: Jennifer.Tobin@nrc.gov.

SUPPLEMENTARY INFORMATION:

I. Background

Westinghouse Electric Company, LLC (WEC) holds a special nuclear materials (SNM) License Number SNM-1107 under part 70 of title 10 of the Code of Federal Regulations (10 CFR), “Domestic Licensing of Special Nuclear Material.” Under the terms of its license, WEC fabricates nuclear fuel at the Columbia Fuel Fabrication Facility (CFFF). The US Ecology, Inc. (USEI) disposal facility near Grand View, Idaho is a Subtitle C Resource Conservation and Recovery Act (RCRA) hazardous waste disposal facility permitted by the State of Idaho to receive radioactive waste.

II. Request/Action

The proposed action would approve the alternate disposal request and provide exemptions from 10 CFR 70.3 and 10 CFR 30.3 and an associated WEC license amendment, allowing WEC to transfer and USEI to receive and dispose of waste containing byproduct material and SNM. The volumetrically contaminated waste includes calcium fluoride (CaF2) sludge dredged from the disposal lagoons and the Sanitary Lagoon located on the site, the sanitary lagoon liner, contaminated soil from under and adjacent to the Sanitary Lagoon, and soil associated with the demolition of the CaF2 storage pad. The surface-contaminated waste being considered for disposal includes obsolete uranium hexafluoride (UF6) shipping cylinders and debris associated with demolition and removal of the CaF2 pad and Sanitary Lagoon. The waste being considered originates from processes associated with the chemical conversion of UF6 to uranium dioxide (UO2) performed at CFFF and is contaminated with isotopic uranium (U-234, U-235, and U-238) and technicium-99 (Tc-99).

As proposed, this waste would be transported from CFFF in South Carolina to the USEI facility near Grand View, Idaho using a combination of trucks and railcars. The USEI facility is a RCRA Subtitle C hazardous waste disposal facility permitted by the State of Idaho.

III. Discussion

Pursuant to 10 CFR 70.17 and 10 CFR 30.11, the Commission may, upon application of any interested person or upon its own initiative, grant such exemptions from the requirements of 10 CFR part 70 and part 30 respectively, as it determines are authorized by law and will not endanger life or property or the common defense and security and are otherwise in the public interest.

The Exemptions Are Authorized by Law

The proposal provides that the material described in this notice would be transported and disposed of in compliance with Federal, State, and local regulations. Further, as previously noted, the NRC is authorized to grant exemptions from 10 CFR parts 30 and 70. Granting these exemptions are also not contrary to the Atomic Energy Act of 1954, as amended, or other regulatory requirements or law. Therefore, such disposal is not otherwise contrary to NRC requirements, and is otherwise authorized by law.

The Exemptions Will Not Endanger Life, Property or the Common Defense and Security

NRC staff reviewed the information provided by WEC to support its 10 CFR 20.2002 alternate disposal request and the specific exemptions from 10 CFR 30.3 and 10 CFR 70.3 and the associated license amendment in order to dispose of the specified material associated with cleanup activities at CFFF. The NRC staff concluded that the requested disposal of waste containing byproduct material and SNM is acceptable under 10 CFR 20.2002. Details provided in this request, in combination with appropriate references to past approvals of similar procedures and material from the same site, provide an adequate description of the waste and demonstrate that the proposed manner and conditions of waste disposal would be protective of public health and safety and security and would not endanger property. In particular, under the alternate disposal request, public doses would be a fraction of the natural background radiation dose and a fraction of the annual public dose limit. NRC staff also notes that the request is also subject to regulation under RCRA. Lastly, because of the presence of SNM, the NRC evaluated potential criticality in its safety evaluation report and found no concerns. Therefore, the NRC concludes that issuance of the exemption will not endanger life, property, or the common defense and security.

The Exemptions Are in the Public Interest

Issuance of the exemptions to WEC and USEI is in the public interest because it provides for the efficient and safe disposal for the subject waste material, facilitates the decommissioning of the CFFF site consistent with the consent agreement between CFFF and the South Carolina Department of Health and Environmental Control, and conserves low-level radioactive waste disposal capacity at licensed low-level radioactive disposal sites while ensuring that the material being considered is disposed of safely in a regulated facility. Therefore, based upon the evaluation previously noted, exemptions are appropriate pursuant to 10 CFR 30.11 and 10 CFR 70.17.

IV. Environmental Considerations

As required by 10 CFR 51.21, the NRC performed an environmental assessment (EA) that analyzes the environmental impacts of the proposed exemptions in accordance with the National Environmental Policy Act of 1969 and NRC implementing regulations in 10 CFR part 51. Based on the conclusions of the EA, the NRC staff has determined that there is no need to prepare an environmental impact statement for the proposed exemptions and has issued a finding of no significant impact (FONSI). The EA and FONSI were published in the Federal Register on March 10, 2022 (87 FR 13766).

V. Conclusions

Accordingly, the Commission has determined that, pursuant to 10 CFR 70.17 and 10 CFR 30.11, exemptions for WEC and USEI are authorized by law, will not present an undue risk to the public health and safety, are consistent with the common defense and security, and are in the public interest. Therefore, the Commission hereby grants WEC and USEI exemptions from 10 CFR 70.3 and 10 CFR 30.3 to allow WEC to transfer certain low-activity radioactive materials, including byproduct and SNM, from the WEC CFFF for disposal at the USEI disposal facility located near Grand View, Idaho, and issues WEC a conforming license amendment.

Dated: March 21, 2022.
For the Nuclear Regulatory Commission.
Jacob I. Zimmerman,
Chief, Fuel Facility Licensing Branch, Division of Fuel Management, Office of Nuclear Material Safety and Safeguards.

[FR Doc. 2022-06236 Filed 3-23-22; 8:45 am]

BILLING CODE 7590-01-P